FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 11, 2013.

A. Federal Reserve Bank of Chicago (Colette A. Fried, Assistant Vice President) 230 South LaSalle Street, Chicago, Illinois 60690-1414:

1. Sabina Bosshard, Homer, Minnesota, individually, and as co-trustee of the Sabina Bosshard Irrevocable Trust (“Trust”), and Sabina Bosshard, together as a group acting in concert with Trust, the Lindsey Bosshard Trust, Jeff Gray, LaCrosse, Wisconsin, as co-trustee of Trust and trustee of the Lindsey Bosshard Trust, Ross E. Parke, New York, New York, as independent trustee of Trust, Kurt Bosshard, Kapaa, Hawaii, John Bosshard III, McCarthy, Alaska, William Bosshard and Andrew Bosshard, both of La Crosse, Wisconsin, Carlista Bosshard, Madison, Wisconsin, Joseph Bosshard and Makenzie Bosshard, both of Boulder, Colorado, Nathan Bosshard-Blakely, Berkeley, California, Elizabeth Bosshard-Blakely, South Pasadena, California, Alexandra Bosshard, Sandy, Utah, and John Bosshard, Superior, Colorado, to retain voting shares of Bosshard Financial Group, Inc., La Crosse, Wisconsin, and thereby to indirectly retain control of Grand Marsh State Bank, Grand Marsh, Wisconsin, and Farmers State Bank—Hillsboro, Hillsboro, Wisconsin.

Board of Governors of the Federal Reserve System, January 18, 2013.
Robert deV. Frierson,
Secretary of the Board.

[FR Doc. 2013-01403 Filed 1-23-13; 8:45 am]

BILLING CODE 6210-01-P